DEPARTMENT OF COMMERCE

National Oceanic and Atmospheric Administration

[I.D. 090903C]

Small Takes of Marine Mammals Incidental to Specified Activities; Oceanographic Survey in the Northwest Atlantic Ocean Near Bermuda

AGENCY: National Marine Fisheries Service (NMFS), National Oceanic and Atmospheric Administration (NOAA), Commerce.

ACTION: Notice of extension of comment deadline.

SUMMARY: Under the Marine Mammal Protection Act (MMPA), on October 9, 2003, NMFS published a notice of receipt of an application for the harassment of marine mammals incidental to conducting an oceanographic survey in the Northwest Atlantic Ocean near Bermuda. By this document, NMFS announces an extension of the comment deadline.

DATES: Comments and information must be received no later than November 10, 2003.

ADDRESSES: Comments should be addressed to the Chief, Marine Mammal Conservation Division, Office of Protected Resources, National Marine Fisheries Service, 1315 East-West Highway, Silver Spring, MD 20910-3226. A copy of the application may be obtained by writing to this address or by telephoning the contact listed here. Comments cannot be accepted if submitted via e-mail or the Internet.

FOR FURTHER INFORMATION CONTACT: Sarah C. Hagedorn, Office of Protected Resources, NMFS, (301) 713-2322, ext 117.

SUPPLEMENTARY INFORMATION:

Background

Section 101(a)(5)(A) of the MMPA (16 U.S.C. 1361 et seq.) directs the Secretary of Commerce (Secretary) to allow, upon request, the incidental, but not intentional taking of marine mammals by U.S. citizens who engage in a specified activity (other than commercial fishing) within a specified geographical region if certain findings are made and regulations are issued.

On October 9, 2003 (68 FR 58308), NMFS announced that it had received an application from the Lamont-Doherty Earth Observatory (LDEO) for an Incidental Harassment Authorization to take small numbers of marine mammals, by harassment, incidental to conducting an oceanographic survey in the Northwest Atlantic Ocean near Bermuda. Under the MMPA, NMFS requested comments on its proposal to issue an authorization to LDEO to incidentally take, by harassment, small numbers of several species of marine mammals for a limited period of time within the next year. By this document, NMFS extends the comment period on the application and its preliminary determination until November 10, 2003.

Dated: October 14, 2003.
Donna Wieting,
Acting Director, Office of Protected Resources, National Marine Fisheries Service.

[FR Doc. 03-26548 Filed 10-20-03; 8:45 am]

BILLING CODE 3510-22-S